DEPARTMENT OF DEFENSE

Office of the Secretary

Defense Science Board

AGENCY: Department of Defense.

ACTION: Notice of Advisory Committee meeting.

SUMMARY: The Defense Science Board Task Force on Manufacturing Technology will meet in open session on May 24-25, 2005; July 26-27, 2005; September 21-22, 2005; and November 2-3, 2005, at SAI, 3601 Wilson Boulevard, Arlington, VA. This Task Force will review the Department of Defense Manufacturing Technology (ManTech) Program.

DATES: May 24-25, 2005; July 26-27, 2005; September 21-22, 2005; November 2-3, 2005.

ADDRESSES: SAI, 3601 Wilson Boulevard, Arlington, VA.

FOR FURTHER INFORMATION CONTACT: LTC Scott Dolgoff, USA, Defense Science Board, 3140 Defense Pentagon, Room 3D865, Washington, DC 20301-3140, via e-mail at scott.dolgoff@osd.mil, or via phone at (703) 695-4158.

SUPPLEMENTARY INFORMATION: The mission of the Defense Science Board is to advise the Secretary of Defense and the Under Secretary of Defense for Acquisition, Technology & Logistics on scientific and technical matters as they affect the perceived needs of the Department of Defense. At these meetings, the Defense Science Board Task Force will review the extent to which ManTech investments and funding plans for each Military Service and the Defense Logistics Agency support near-term, warfighting operations, the industrial base, and long-range/revolutionary technologies. Assess the adequacy of technical investments across manufacturing process disciplines and support for both Joint Warfighting Capabilities and revolutionary technologies. The Task Force will also appraise funding for manufacturing research and development, including mechanisms to support both Service/Agency requirements and cross-cutting initiatives.

Due to scheduling and work burden difficulties, there is insufficient time to provide timely notice required by section 10(a) of the Federal Advisory Committee Act and subsection 102-3.150(b) of the GSA Final Rule on Federal Advisory Committee Management, 41 CFR 102-3.150(b), which further requires publication at least 15 calendar days prior to the meeting.

Dated: May 17, 2005.
Jeannette Owings-Ballard,
OSD Federal Register Liaison Officer, Department of Defense.

[FR Doc. 05-10158 Filed 5-19-05; 8:45 am]

BILLING CODE 5001-06-P